DEPARTMENT OF COMMERCE

Foreign-Trade Zones Board

[B-68-2018]

Foreign-Trade Zone (FTZ) 23—Buffalo, New York; Authorization of Production Activity; Panasonic Eco Solutions Solar New York America, Subzone 23E (Crystalline Silicon Photovoltaic Cells), Buffalo, New York

On October 24, 2018, Panasonic Eco Solutions Solar New York America submitted a notification of proposed production activity to the FTZ Board for its facility within Subzone 23E, in Buffalo, New York.

The notification was processed in accordance with the regulations of the FTZ Board (15 CFR part 400), including notice in the Federal Register inviting public comment (83 FR 55143-55144, November 2, 2018). On April 2, 2019, the applicant was notified of the FTZ Board's decision that no further review of the activity is warranted at this time. The production activity described in the notification was authorized, subject to the FTZ Act and the FTZ Board's regulations, including Section 400.14.

Dated: April 2, 2019.
Andrew McGilvray,
Executive Secretary.

[FR Doc. 2019-06860 Filed 4-5-19; 8:45 am]

BILLING CODE 3510-DS-P